DEPARTMENT OF COMMERCE

[Docket No. 0811211498-81504-03]

Privacy Act of 1974: System of Records

AGENCY: National Oceanic and Atmospheric Administration, U.S. Department of Commerce.

ACTION: Notice to delete a Privacy Act System of Records: COMMERCE/NOAA-17, Permits and Registrations for Fisheries of the Exclusive Economic Zone (EEZ) off the Coast of Alaska.

SUMMARY: In accordance with the Privacy Act (5 U.S.C. 552a(e)(4) and (11), the Department of Commerce (Commerce) is issuing notice of its intent to delete the system of records entitled “Permits and Registrations for Fisheries of the Exclusive Economic Zone (EEZ) off the Coast of Alaska.” This system of records has been superseded by COMMERCE/NOAA-19 (73 FR 20914); Permits and Registrations for United States Federally Regulated Fisheries, which became effective on June 11, 2008 (73 FR 33065).

DATES: To be considered, written comments must be submitted on or before March 25, 2009. Unless comments are received, the deletion of the system of records will become effective as proposed on the date of publication of a subsequent notice in the Federal Register.

ADDRESSES: Sarah Brabson, NOAA Paperwork Reduction Act Clearance Officer, 1315 East West Highway, Silver Spring, MD 20910. Comments may be submitted electronically to the following electronic mail address: sarah.brabson@noaa.gov.

SUPPLEMENTARY INFORMATION: On June 11, 2008, the Privacy Act System of Records COMMERCE/NOAA-19, Permits and Registrations for United States Federally Regulated Fisheries became effective. This System of Records includes all information in COMMERCE/NOAA-17, Permits and Registrations for Fisheries of the Exclusive Economic Zone (EEZ) off the Coast of Alaska and thus supersedes it.

February 17, 2009.
Brenda Dolan,
U.S. Department of Commerce, Freedom of Information/Privacy Act Officer.

[FR Doc. E9-3756 Filed 2-20-09; 8:45 am]

BILLING CODE 3510-22-P